DEPARTMENT OF AGRICULTURE

Agricultural Marketing Service

[Doc. No. AMS-FV-14-0067]

Fruit and Vegetable Industry Advisory Committee

AGENCY: Agricultural Marketing Service, USDA.

ACTION: Notice of public meeting.

SUMMARY: Pursuant to the Federal Advisory Committee Act, the Agricultural Marketing Service (AMS) is announcing a meeting of the Fruit and Vegetable Industry Advisory Committee (Committee). The meeting is being convened to examine the full spectrum of fruit and vegetable issues and provide recommendations and ideas to the Secretary of Agriculture on how the U.S. Department of Agriculture (USDA) can tailor programs and services to better meet the needs of the U.S. produce industry. The meeting is open to the public. This notice sets forth the schedule and location for the meeting.

DATES: Monday, September 29, 2014, from 8:30 a.m. to 5:00 p.m., and Tuesday, September 30, 2014, from 8:30 a.m. to 1:00 p.m.

ADDRESSES: The Committee meeting will be held at the Hyatt Regency Crystal City Hotel, at 2799 Jefferson Davis Highway, Arlington, Virginia 22202.

FOR FURTHER INFORMATION CONTACT: Marlene Betts, Acting Designated Federal Official, USDA, AMS, Fruit and Vegetable Program; Telephone: (202) 720-3334; Email: Marlene.betts@ams.usda.gov.

SUPPLEMENTARY INFORMATION: Pursuant to the Federal Advisory Committee Act (FACA)(5 U.S.C. App.), the Secretary of Agriculture (Secretary) established the Committee in 2001, to examine the full spectrum of issues faced by the fruit and vegetable industry and to provide suggestions and ideas to the Secretary on how USDA can tailor its programs to meet the fruit and vegetable industry's needs. The Committee was re-chartered in July 2013, for a two-year period.

A notice soliciting nominations was published in the Federal Register on November 25, 2013 (78 FR 70259). The Secretary appointed members to the Committee in July 2014. Each member serves either a two or three-year term, and no member shall serve more than six consecutive years on the Committee. AMS oversees the Committee to ensure that it is administered according to the FACA.

AMS Deputy Administrator for the Fruit and Vegetable Program, Charles Parrott, serves as the Committee's Executive Secretary. Representatives from USDA mission areas and other government agencies affecting the fruit and vegetable industry are called upon to participate in the Committee's meetings as determined by the Committee. AMS is giving notice of the Committee meeting to the public so that they may attend and present their recommendations. The meeting is open to the public. Reference to dates and addresses section for the time and place of the meeting.

Agenda items will include, but are not limited to, welcome and introductions, administrative matters, selection of Committee Chairman and Vice-Chairman, and discussions by the Committee on the full spectrum of issues facing the fruit and vegetable industry. The Committee will determine the areas that they would like to address concerning the Department's programs.

Public Comments: Those parties that would like to speak at the meeting should register on or before September 19, 2014. To register as a speaker, please email your name and all of the names of people planning to give oral comments, the organizations or interests represented, business addresses, email addresses, and telephone numbers to Ms. Marlene Betts, Acting Designated Federal Officer (DFO) at: Marlene.betts@ams.usda.gov or telephone at (202) 720-3334. Speakers who have registered in advance will be given priority. Written public comments may be submitted electronically by September 19, 2014, for the Committee's consideration to www.regulations.gov or mail to: 1400 Independence Avenue SW., Room 2077-South, STOP 0235, Washington, DC 20250-0235. The meeting will be recorded, and information about obtaining a transcript will be provided at the meeting.

Meeting Accommodations: The meeting hotel is ADA compliant, and the USDA provides reasonable accommodations to individuals with disabilities where appropriate. If you need a reasonable accommodation to participate in this public meeting, please notify Marlene Betts at marlene.betts@ams.usda.gov or (202) 720-3334. Determinations for reasonable accommodations will be made on a case-by-case basis.

Dated: August 27, 2014.
Rex A. Barnes,
Associate Administrator.

[FR Doc. 2014-20833 Filed 9-2-14; 8:45 am]

BILLING CODE 3410-02-P